DEPARTMENT OF VETERANS AFFAIRS

Advisory Committee on Homeless Veterans, Notice of Meeting

The Department of Veterans Affairs (VA) gives notice under the Federal Advisory Committee Act, 5 U.S.C. App. 2, that a meeting of the Advisory Committee on Homeless Veterans will be held on September 11-13, 2013, in the William Phillip King Room at The Emily Morgan Hotel, 705 East Houston Street, San Antonio. The Committee will meet from 8 a.m. each day until 4 p.m. on September 11-12 and until noon on September 13.

The purpose of the Committee is to provide the Secretary of Veterans Affairs with an on-going assessment of the effectiveness of the policies, organizational structures, and services of the Department in assisting homeless Veterans. The Committee shall assemble and review information relating to the needs of homeless Veterans and provide on-going advice on the most appropriate means of providing assistance to homeless Veterans. The Committee will make recommendations to the Secretary regarding such activities.

On the morning of September 11, the Committee will convene in open session to receive briefings from VA and other officials regarding services for homeless Veterans. In the afternoon, the Committee will convene in closed session in order to protect patient privacy to conduct site visits to the American GI Forum Residential Center at 519 N. Medina Street, San Antonio, Texas, and the Haven for Hope at 1 Haven for Hope Way, San Antonio, Texas. Closing this session is in accordance with 5 U.SC. 552b(c)(6).

On September 12, the Committee will reconvene in an open session to receive briefings from VA and other officials regarding services for homeless Veterans. The Committee then will discuss items for its upcoming annual report and recommendations to the Secretary.

On September 13, the Committee will reconvene in open session to begin drafting items and recommendations for its upcoming annual report to the Secretary. No time will be allocated at this meeting for receiving oral presentations from the public. Interested parties should provide written comments on issues affecting homeless Veterans for review by the Committee to Mr. Vince Kane, Designated Federal Officer, Homeless Veterans Initiative Office (075D), Department of Veterans Affairs, 1722 Eye Street NW., Washington, DC 20006, or email to vince.kane@va.gov. Individuals who wish to attend the meeting should contact Mr. Kane at (202) 461-1857.

Dated: August 26, 2013.
By Direction of the Secretary:
Vivian Drake,
Committee Management Officer.

[FR Doc. 2013-21164 Filed 8-29-13; 8:45 am]

BILLING CODE P